DEPARTMENT OF THE INTERIOR

National Park Service

[NPS-WASO-NAGPRA-NPS0039776; PPWOCRADN0-PCU00RP14.R50000]

Notice of Inventory Completion: American Museum of Natural History, New York, NY

AGENCY: National Park Service, Interior.

ACTION: Notice.

SUMMARY: In accordance with the Native American Graves Protection and Repatriation Act (NAGPRA), the American Museum of Natural History (AMNH) has completed an inventory of human remains and has determined that there is a cultural affiliation between the human remains and Indian Tribes or Native Hawaiian organizations in this notice.

DATES: Repatriation of the human remains in this notice may occur on or after April 28, 2025.

ADDRESSES: Nell Murphy, American Museum of Natural History, 200 Central Park West, New York, NY 10024, telephone (212) 769-5837, email nmurphy@amnh.org.

SUPPLEMENTARY INFORMATION: This notice is published as part of the National Park Service's administrative responsibilities under NAGPRA. The determinations in this notice are the sole responsibility of the American Museum of Natural History, and additional information on the determinations in this notice, including the results of consultation, can be found in its inventory or related records. The National Park Service is not responsible for the determinations in this notice.

Abstract of Information Available

Human remains representing, at least, 27, individuals have been identified. No associated funerary objects are present.

In 1875, human remains representing a minimum of five individuals were removed from Avila Landing, San Luis Obispo County, California by James Terry. The AMNH purchased the remains from Terry in 1891 and accessioned them that same year. No associated funerary objects were present.

Prior to 1891, human remains representing a minimum of five individuals were removed from Point Mugu, Ventura County, California, by Stephen Bowers, who later sold them to James Terry. The AMNH purchased the remains from Terry in 1891 and accessioned them that same year. No associated funerary objects were present.

On February 12, 1880, human remains representing a minimum of two individuals were removed from Santa Barbara County, California, by Stephen Bowers, who later sold them to James Terry. The AMNH purchased the remains from Terry in 1891 and accessioned them that same year. No associated funerary objects were present.

In April of 1916, human remains representing a minimum of 14 individuals were removed from El Capitán Beach, Santa Barbara County, California, by E.C. Tripp. These remains were purchased by R.G. Hazard, who donated them to the American Museum of Natural History in 1917. The AMNH accessioned these remains that same year. No associated funerary objects were present.

Between 1936-1937, human remains representing a minimum of one individual were removed from a location 2 miles south of Lompoc, California. This site is likely Hondo Beach Village. The remains were gifted to the American Museum of Natural History by Richard L. Casanova in 1937, and they were accessioned that same year. Casanova described associated funerary objects in his letters to the Museum, however they were not accessioned by the Museum, and their current whereabouts are unknown.

Based on available information and tribal consultation, these remains are affiliated with the Santa Ynez Band of Chumash Mission Indians of the Santa Ynez Reservation, California. The following types of information were used to determine affiliation: geographical, historical, anthropological, linguistic, archaeological, and Native American traditional knowledge.

While it no longer does so, in the past, the Museum applied potentially hazardous pesticides to items in the collections. Museum records do not list specific objects treated or which of several chemicals used were applied to a particular item. Therefore, those handling this material should follow the advice of industrial hygienists or medical personnel with specialized training in occupational health or with potentially hazardous substances.

Cultural Affiliation

Based on the information available and the results of consultation, cultural affiliation is clearly identified by the information available about the human remains described in this notice.

Determinations

The American Museum of Natural History has determined that:

• The human remains described in this notice represent the physical remains of 27 individuals of Native American ancestry.

• There is a connection between the human remains described in this notice and the Santa Ynez Band of Chumash Mission Indians of the Santa Ynez Reservation, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 28, 2025. If competing requests for repatriation are received, the American Museum of Natural History must determine the most appropriate requestor prior to repatriation. Requests for joint repatriation of the human remains are considered a single request and not competing requests. The American Museum of Natural History is responsible for sending a copy of this notice to the Indian Tribes and Native Hawaiian organizations identified in this notice.

Authority: Native American Graves Protection and Repatriation Act, 25 U.S.C. 3003, and the implementing regulations, 43 CFR 10.10.

Dated: March 17, 2025.
Melanie O'Brien,
Manager, National NAGPRA Program.

[FR Doc. 2025-05229 Filed 3-26-25; 8:45 am]

BILLING CODE 4312-52-P